DEPARTMENT OF HOMELAND SECURITY

[Docket No. CISA-2023-0012]

Notice of President's National Infrastructure Advisory Council Meeting

AGENCY: Cybersecurity and Infrastructure Security Agency (CISA), Department of Homeland Security (DHS).

ACTION: Amendment of notice; partial closure and date change.

SUMMARY: On November 16, 2023 the Department of Homeland Security (DHS) published a notice in the Federal Register announcing the President's National Infrastructure Advisory Council (NIAC) meeting on Tuesday, December 12, 2023. This notice amends that prior notice. Meeting changes have occurred because of senior leadership availability and the urgent need to discuss priorities and potential threats concerning the nation's critical infrastructure.

DATES:

Meeting Registration: Registration is required to attend the meeting and must be received no later than 5:00 p.m. Eastern Standard Time (EST) on December 11, 2023. For more information on how to participate, please contact NIAC@cisa.dhs.gov.

Speaker Registration: Registration to speak during the meeting's public comment period must be received no later than 5:00 p.m. EST on December 11, 2023.

Written Comments: Written comments must be received no later than 5 p.m. EST on December 11, 2023.

Meeting Date: The NIAC will meet on December 13, 2023, from 1 p.m. to 4 p.m. EST. The meeting may close early if the council has completed its business.

ADDRESSES: The National Infrastructure Advisory Council's open session will be held in-person at 1650 Pennsylvania Ave. NW, Washington, DC; however, members of the public may participate via teleconference only. Requests to participate will be accepted and processed in the order in which they are received. For access to the conference call bridge, information on services for individuals with disabilities, or to request special assistance, please email NIAC@cisa.dhs.gov by 5:00 p.m. EST on December 11, 2023. The NIAC is committed to ensuring all participants have equal access regardless of disability status. If you require a reasonable accommodation due to a disability to fully participate, please contact Celinda Moening at NIAC@cisa.dhs.gov as soon as possible.

Comments: The council will consider public comments on issues as listed in the SUPPLEMENTARY INFORMATION section below. Associated materials for potential discussions during the meeting will be available for review at https://www.cisa.gov/niac by December 12, 2023. Comments should be submitted by 5 p.m. EST on December 12, 2023 and must be identified by Docket Number CISA-2023-0012. Comments may be submitted by one of the following methods:

• Federal eRulemaking Portal: www.regulations.gov. Please follow the instructions for submitting written comments.

• Email: NIAC@cisa.dhs.gov. Include the Docket Number CISA-2023-0012 in the subject line of the email.

Instructions: All submissions received must include the words “Department of Homeland Security” and the Docket Number for this action. Comments received will be posted without alteration to www.regulations.gov, including any personal information provided. You may wish to read the Privacy & Security Notice which is available via a link on the homepage of www.regulations.gov.

Docket: For access to the docket and comments received by the National Infrastructure Advisory Council, please go to www.regulations.gov and enter docket number CISA-2023-0012.

A public comment period will take place. Speakers who wish to participate in the public comment period must email NIAC@cisa.dhs.gov to register. Speakers should limit their comments to 1 minute and will speak in order of registration. Please note that the public comment period may end before the time indicated, depending on the number of speakers who register to participate.

FOR FURTHER INFORMATION CONTACT: Celinda Moening, 571-532-4119, NIAC@cisa.dhs.gov.

SUPPLEMENTARY INFORMATION: The NIAC is established under Section 10 of E.O. 13231 issued on October 16, 2001, as amended and continued under the authority of E.O. 14109, dated September 29, 2023. Notice of this meeting is given under the Federal Advisory Committee Act (FACA), 5 U.S.C. Ch. 10 (Pub. L. 117-286). The NIAC provides the President, through the Secretary of Homeland Security, advice on the security and resilience of the Nation's critical infrastructure sectors.

The meeting date is being changed from Tuesday, December 12, 2023 to Wednesday, December 13, 2023. This meeting will now be partially closed to the public, with the closure time of the meeting yet to be determined. Members of the public who register to participate virtually will be informed what portion of the meeting will be closed.

Agenda: The National Infrastructure Advisory Council will meet in an open session on Wednesday, December 13, 2023, from 1 p.m. to 4 p.m. EST to discuss NIAC activities. The open session will include: (1) a period for public comment; (2) read-on, deliberation and vote on the NIAC's Managing the Infrastructure Challenges of Increasing Electrification report; and (3) additional study topics discussion.

The council will meet in a closed session, with the closure time of the meeting yet to be determined. During the closed session, senior White House officials will discuss priorities and potential threats concerning the nation's critical infrastructure.

Basis for Closure: In accordance with section 10(d) of FACA and 5 U.S.C. 552b(c)(1), The Government in the Sunshine Act, it has been determined that a portion of the agenda requires closure, as the disclosure of the information that will be discussed would not be in the public interest.

Public disclosure of these threats, as well as vulnerabilities and mitigations, is a risk to the Nation's infrastructure security posture as adversaries could use this information to do harm.

Celinda E. Moening,
Alternate Designated Federal Officer, National Infrastructure Advisory Council, Cybersecurity and Infrastructure Security Agency, Department of Homeland Security.

[FR Doc. 2023-27282 Filed 12-12-23; 8:45 am]

BILLING CODE 9110-9P-P